DEPARTMENT OF THE INTERIOR

Fish and Wildlife Service

[FWS-R6-R-2012-N235; FF06R06000 134 FXRS1265066CCP0]

Quivira National Wildlife Refuge, Stafford, KS; Comprehensive Conservation Plan and Environmental Assessment

AGENCY: Fish and Wildlife Service, Interior.

ACTION: Notice of availability; request for comments.

SUMMARY: We, the U.S. Fish and Wildlife Service (Service), announce that our draft comprehensive conservation plan (CCP) and environmental assessment (EA) for Quivira National Wildlife Refuge is available. This draft CCP/EA describes how the Service intends to manage this refuge for the next 15 years.

DATES: To ensure consideration, we must receive your written comments on the draft CCP/EA by May 20, 2013.

Submit comments by one of the methods under ADDRESSES.

ADDRESSES: Send your comments or requests for more information by any of the following methods.

Email: toni_griffin@fws.gov. Include “Quivira NWR” in the subject line of the message.

Fax: Attn: Toni Griffin, Planning Team Leader, 303-236-4792.

U.S. Mail: Toni Griffin, Planning Team Leader, Suite 300, 134 Union Boulevard, Lakewood, CO 80228.

Document Request: A copy of the CCP/EA may be obtained by writing to U.S. Fish and Wildlife Service, Division of Refuge Planning, 134 Union Boulevard, Suite 300, Lakewood, Colorado 80228; or by download from http://mountain-prairie.fws.gov/planning.

FOR FURTHER INFORMATION CONTACT: Toni Griffin, 303-236-4378 (phone); 303-236-4792 (fax); or toni_griffin@fws.gov (email); or David C. Lucas, 303-236-4366 (phone); 303-236-4792 (fax); or david_c_lucas@fws.gov.

SUPPLEMENTARY INFORMATION:

Introduction

With this notice, we continue the CCP process for the Quivira National Wildlife Refuge. We started this process through a notice in the Federal Register (75 FR 8394, February 24, 2010).

The 22,135-acre Quivira National Wildlife Refuge is part of the National Wildlife Refuge System and is located in Reno, Rice, and Stafford Counties in south-central Kansas. The Quivira National Wildlife Refuge was established in 1955 to provide wintering and migration stopover habitat for migratory birds along the Central Flyway of North America. Wetlands large and small are present throughout the refuge, with approximately 7,000 acres of wetlands with slightly to moderately saline water. Thousands of Canada geese, ducks, and other migratory birds such as sandhill cranes and shorebirds use these wetlands as they pass through the refuge on their annual migrations. The refuge provides critical habitat for the federally listed whooping crane and State-listed western snowy plover. Bald eagles winter and nest on the refuge, and Interior least terns nest on the refuge. The refuge also provides numerous opportunities for the public, including hunting, fishing, wildlife observation and photography, interpretation and environmental education for students and visitors. The Quivira Refuge manages the Great Plains Nature Center located in Wichita, which compliments and supports the purpose of the refuge. The refuge has many special designations, including the following: It is a Ramsar Site (Wetlands of International Importance), it is in the Western Hemisphere Shorebird Reserve Network (WHSRN), and it is an Important Bird Area (IBA, National Audubon Society) and Research Natural Area.

Background

The CCP Process

The National Wildlife Refuge System Administration Act of 1966 (16 U.S.C. 668dd-668ee) (Administration Act), as amended by the National Wildlife Refuge System Improvement Act of 1997, requires us to develop a CCP for each national wildlife refuge. The purpose for developing a CCP is to provide refuge managers with a 15-year plan for achieving refuge purposes and contributing toward the mission of the National Wildlife Refuge System, consistent with sound principles of fish and wildlife management, conservation, legal mandates, and our policies. In addition to outlining broad management direction on conserving wildlife and their habitats, CCPs identify wildlife-dependent recreational opportunities available to the public, including opportunities for hunting, fishing, wildlife observation and photography, and environmental education and interpretation. We will review and update the CCP at least every 15 years in accordance with the Administration Act.

Public Outreach

We started the CCP for Quivira Refuge in February 2010. At that time and throughout the process, we requested public comments and considered and incorporated them in the planning process. Public outreach has included a news release, planning update, and three scoping meetings. Comments we received cover topics such as habitat management, threatened and endangered species, and public use. We have considered and evaluated all of these comments, with many incorporated into the various alternatives addressed in the draft CCP and the EA.

CCP Alternatives We Are Considering

Alternative A—Current Management (No Action)

Funding, staff levels, and management activities at the refuge would not change. Habitats would be managed to increase and maintain resilience through conservation of native communities. Baseline monitoring of habitat conditions that could potentially be related to the effects of climate change would continue. Staff would continue to seek information and maintain communications with others regarding current and potential future conservation issues impacting the refuge, while periodically assessing the role of the refuge at different landscape scales. The hydrology of the Big Salt Marsh would be allowed to fluctuate with natural climate variations, and use of Rattlesnake Creek water would be limited. The Little Salt Marsh would continue to be used to serve the dual roles of providing waterbird habitat and storing water from Rattlesnake Creek to facilitate management of other refuge wetlands.

Migratory birds would continue to be the focus of refuge management, with a primary focus of wetland management to provide migration, resting, and nesting habitat for a diversity of waterbirds, especially waterfowl, cranes, shorebirds, and rails. Upland habitats would continue to be managed to provide migratory and nesting habitat, primarily favoring native wildlife communities characteristic of open sand prairie. Quivira Refuge would continue to manage habitats in support of Federal and State threatened and endangered species, Federal candidate species, and State species in need of conservation, especially those species with designated critical habitat on Quivira Refuge lands and those that most commonly depend on refuge resources. Staffing would consist of nine full-time permanent refuge funded employees, one permanent part-time employee and two fire-funded staff. In addition, one permanent employee would be stationed at the GPNC. The Service would continue to support the GPNC through its partnership with the City of Wichita Department of Park and Recreation and the Kansas Department of Wildlife, Parks and Tourism. Level of Service staffing at the GPNC would remain the same.

Alternative B—Proposed Action

Management would focus on restoring native communities that benefit focal resources, or focal species and their respective habitats, and increasing public use opportunities for hunting. Increased attention would be given to understanding and minimizing effects of management among habitat types, such as habitat changes in meadow and adjacent uplands resulting from water management in created wetlands. This should enhance awareness of the connectedness of habitats and areas throughout the refuge. To achieve this alternative, relatively minor changes in the refuge's operations; inventory, monitoring, and research; staffing; and infrastructure would likely be required.

Alternative C

The intent of alternative C would be to promote self-sustaining natural processes to the extent possible. Key values of restoring natural ecological processes are achieving long-term sustainability of native communities and lowering maintenance costs on some aspects of management. Management efforts, such as prescribed fire, grazing, and invasive species control, would be focused on maintaining native plant community composition and diversity, with the assumption that native wildlife would benefit from these activities. Relative to other alternatives, habitat conditions would be allowed to fluctuate more with climatically driven wet and dry cycles; however, some management would still be required to mitigate the effects of past land use on the refuge and in the watershed that have permanently altered some ecological processes.

Initially, considerable time would be required to assess current ecological functions, identify key elements that should be restored, and evaluate potential restoration options that could be implemented within the constraints imposed by biological, economic, social, political, and legal considerations. Implementation of this alternative would occur in stages over many years, and changes in refuge research and monitoring, staffing, operations, and infrastructure would be required. In addition, the success of actions implemented under this alternative would be influenced greatly by the ability of management to develop new and expanded partnerships with a diversity of stakeholders in the Rattlesnake Creek watershed.

Public Meetings

Opportunity for public input will be provided at public meetings. The specific dates and times for the public meetings are yet to be determined, but will be announced via local media and a planning update.

Next Steps

After the public reviews and provides comments on the draft CCP and EA, the planning team will present this document along with a summary of all substantive public comments to the Regional Director. The Regional Director will consider the environmental effects of each alternative, including information gathered during public review, and will select a preferred alternative for the draft CCP and EA. If the Regional Director finds that no significant impacts would occur, the Regional Director's decision will be disclosed in a finding of no significant impact included in the final CCP. If the Regional Director finds a significant impact would occur, an environmental impact statement will be prepared. If approved, the action in the preferred alternative will compose the final CCP.

Public Availability of Comments

All public comment information provided voluntarily by mail, by phone, or at meetings (e.g., names, addresses, letters of comment, input recorded during meetings) becomes part of the official public record. If requested under the Freedom of Information Act by a private citizen or organization, the Service may provide copies of such information.

Authority

The environmental review of this project will be conducted in accordance with the requirements of the National Environmental Policy Act (NEPA) of 1969, as amended (42 U.S.C. 4321 et seq.); NEPA Regulations (40 CFR parts 1500-1508, 43 CFR part 46); other appropriate Federal laws and regulations; Executive Order 12996; the National Wildlife Refuge System Improvement Act of 1997; and Service policies and procedures for compliance with those laws and regulations.

Dated: October 29, 2012.
Noreen E. Walsh,
Acting Regional Director, Mountain Prairie Region, U.S. Fish and Wildlife Service.

[FR Doc. 2013-09348 Filed 4-19-13; 8:45 am]

BILLING CODE 4310-55-P